DEPARTMENT OF TRANSPORTATION

Maritime Administration

[Docket No. DOT-MARAD-2021-0018]

Request for Comments on the Renewal of a Previously Approved Information Collection: Application and Reporting Requirements for Participation in the Maritime Security Program

AGENCY: Maritime Administration, DOT.

ACTION: Notice and request for comments.

SUMMARY: The Maritime Administration (MARAD) invites public comments on our intention to request the Office of Management and Budget (OMB) approval to renew an information collection. The information to be collected will be used to determine if selected vessels are qualified to participate in the Maritime Security Program. We are required to publish this notice in the Federal Register by the Paperwork Reduction Act of 1995.

DATES: Comments must be submitted on or before June 7, 2021.

ADDRESSES: You may submit comments [identified by Docket No. DOT-MARAD-2021-0018] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Rhonda Davis, 202-366-6379, Office of Sealift Support, Maritime Administration, U.S. Department of Transportation, 1200 New Jersey Avenue SE, Room W23-343, Washington, DC 20590.

SUPPLEMENTARY INFORMATION:

Title: Application and Reporting Requirements for Participation in the Maritime Security Program.

OMB Control Number: 2133-0525.

Type of Request: Renewal of a Previously Approved Information Collection.

Abstract: The Maritime Security Act of 2003 extended under Section 3508 of the National Defense Authorization Act for Fiscal Year 2013, Public Law 112-239 provides for the enrollment of qualified vessels in the Maritime Security Program Fleet. Applications and amendments are used to select vessels for the fleet. Periodic reporting is used to monitor adherence of contractors to program parameters.

Respondents: Vessel operators.

Affected Public: Business or other for Profit.

Estimated Number of Respondents: 15.

Estimated Number of Responses: 195.

Annual Estimated Total Annual Burden Hours: 210.

Frequency of Response: Monthly/Annually.

Authority: The Paperwork Reduction Act of 1995; 44 U.S.C. chapter 35, as amended; and 49 CFR 1.93.

By Order of the Acting Maritime Administrator.
T. Mitchell Hudson, Jr.,
Secretary, Maritime Administration.

[FR Doc. 2021-07140 Filed 4-6-21; 8:45 am]

BILLING CODE 4910-81-P